INTERNATIONAL TRADE COMMISSION

Government in the Sunshine Act Meeting Notice

[USITC SE-06-051]

Agency Holding the Meeting: United States International Trade Commission.

Time and Date: September 1, 2006 at 9:30 a.m.

Place: Room 101, 500 E Street SW., Washington, DC 20436; Telephone: (202) 205-2000.

Status: Open to the public.

Matters to be Considered: 1. Agenda for future meetings: none.

2. Minutes.

3. Ratification List.

4. Inv. No. 701-TA-442 and 443 and 731-TA-1095-1097 (Final) (Certain Lined Paper School Supplies from China, India, and Indonesia)—briefing and vote. (The Commission is currently scheduled to transmit its determination and Commissioners' opinions to the Secretary of Commerce on or before September 21, 2006).

5. Inv. Nos. 731-TA-703 and 705 (Second Review) (Furfuryl Alcohol from China and Thailand)—briefing and vote. (The Commission is currently scheduled to transmit its determination and Commissioners' opinions to the Secretary of Commerce on or before September 13, 2006).

6. Outstanding action jackets: none.

In accordance with Commission policy, subject matter listed above, not disposed of at the scheduled meeting, may be carried over to the agenda of the following meeting.

Issued: August 17, 2006.
By order of the Commission.
Marilyn R. Abbott,
Secretary to the Commission.

[FR Doc. 06-7092 Filed 8-18-06; 11:24 am]

BILLING CODE 7020-02-P